DEPARTMENT OF COMMERCE

United States Patent and Trademark Office

Submission for OMB Review; Comment Request; “Patents for Humanity Program”

The United States Patent and Trademark Office (USPTO) will submit to the Office of Management and Budget (OMB) for clearance the following proposal for collection of information under the provisions of the Paperwork Reduction Act (44 U.S.C. Chapter 35).

Agency: United States Patent and Trademark Office, Commerce.

Title: Patents for Humanity Program.

OMB Control Number: 0651-0066.

Form Number(s):

• PTO/PFH/001

• PTO/PFH/002

• PTO/SB/431

Type of Request: Regular.

Number of Respondents: 55 responses per year.

Average Hours per Response: The USPTO estimates that it will take the public approximately four hours to complete the humanitarian program application. Those selected as winners (about 5 to 10 per year) may additionally require one hour to complete a petition to extend their acceleration certificate redemption beyond 12 months, if needed. These estimated times include gathering the necessary information, preparing the application and any supplemental materials, and submitting the completed request to USPTO.

Burden Hours: 205 hours per year.

Cost Burden: $0 per year.

Needs and Uses: The USPTO has developed two application forms that applicants can use to apply for participation in the Patents for Humanity Program. One application covers the humanitarian uses of technologies or products and the other application covers humanitarian research. In addition, there is a form that allows applicants to provide their contact information which the USPTO uses to notify applicants that they have been selected for an award. These applications may be up to five pages long and can be supplemented with additional supporting materials. The applications must be submitted electronically through the competition website.

Applicants who are ultimately awarded a Humanitarian Award Certificate may wish to extend the redemption period of that certificate. In the event that an applicant wishes to extend that time period, they must complete a Petition to Extend the Redemption Period of the Humanitarian Awards Certificate. The petition is a one-page document which allows the applicant to request a 12-month extension of their certificate's redemption period based on criteria outlined on the form (e.g., lack of a suitable matter, a pending matter is not yet ripe for certificate redemption, etc.).

Affected Public: Businesses or other for-profits; not-for-profit institutions.

Frequency: On occasion.

Respondent's Obligation: Required to Obtain or Retain Benefits.

OMB Desk Officer: Nicholas A. Fraser, email: Nicholas_A._Fraser@omb.eop.gov.

Once submitted, the request will be publically available in electronic format through www.reginfo.gov. Follow the instructions to view Department of Commerce collections currently under review by OMB.

Further information can be obtained by:

• Email: InformationCollection@uspto.gov. Include “0651-0066 copy request” in the subject line of the message.

• Mail: Marcie Lovett, Records and Information Governance Division Director, Office of the Chief Administrative Officer, United States Patent and Trademark Office, P.O. Box 1450, Alexandria, VA 22313-1450.

Written comments and recommendations for the proposed information collection should be sent on or before December 21, 2018 to Nicholas A. Fraser, OMB Desk Officer, via email to Nicholas_A._Fraser@omb.eop.gov, or by fax to 202-395-5167, marked to the attention of Nicholas A. Fraser.

Marcie Lovett,
Records Management Division Director, USPTO, Office of the Chief Administrative Officer.

[FR Doc. 2018-25410 Filed 11-20-18; 8:45 am]

BILLING CODE 3510-16-P